DEPARTMENT OF COMMERCE

National Oceanic and Atmospheric Administration

Agency Information Collection Activities; Submission to the Office of Management and Budget (OMB) for Review and Approval; Comment Request; Workplace Violence Prevention and Response Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 27, 2022 (87 FR 79279) during a 60-day comment period. This notice allows for an additional 30 days for public comments.

Agency: National Oceanic and Atmospheric Administration (NOAA), Commerce.

Title: Workplace Violence Prevention and Response Forms.

OMB Control Number: 0648-XXXX.

Form Number(s): None.

Type of Request: Regular submission, new information collection.

Number of Respondents: 323.

Average Hours Per Response: Impacted Person Reporting Preference Form and SASH.

Data Collection Form: 1 hour; Workplace Culture Survey: 30 minutes; Ocean Acidification.

Post-Cruise Survey: 10 minutes.

Total Annual Burden Hours: 237.

Needs and Uses: This is a request for a new information collection.

This information collection will be used to document elements of the sexual assault/sexual harassment (SASH) response and/or reporting process and comply with procedures set up to effectively manage National Oceanic and Atmospheric Administration (NOAA), Workplace Violence Prevention and Response (WVPR). Under 33 U.S.C. 894, NOAA is required to establish a mechanism by which sexual assault and sexual harassment can be reported on a Restricted and Unrestricted basis. Further, Congress directs NOAA to reference Department of Defense (DoD) policy and procedures in the standup of our SASH response program. WVPR requires various Intake forms to document a victim's election of a Restricted or Unrestricted Report of sexual assault or sexual harassment, as well as document that the details of each reporting option have been properly communicated with the victim. WVPR has modeled its forms after the DoD sexual assault/sexual harassment forms in accordance with guidance by Congress. NOAA may also use this collection to survey federal employees, contractors, affiliates, interns, volunteers, or other individuals who work in or visit NOAA-occupied facilities, vessels, or aircraft to determine their perceptions of incidents of SASH, pursuant to NOAA Administrative Order (NAO) 202-1106, Section 5.01e.

Affected Public: Individuals employed by NOAA, including affiliates and contractors.

Frequency: As needed.

Respondent's Obligation: Voluntary.

Legal Authority: 33 U.S.C. 894.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary for Economic Affairs, Commerce Department.

[FR Doc. 2023-19191 Filed 9-5-23; 8:45 am]

BILLING CODE 3510-12-P